DEPARTMENT OF LABOR

Employment and Training Administration

Proposed Collection; Comment Request; Correction

AGENCY: Employment and Training Administration, USDOL.

ACTION: Correction.

SUMMARY: In notice document 02-17599 beginning on page 46214 in the issue of Friday, July 12, 2002, make the following corrections:

On page 46214 in the third column, insert “Agency: Employment and Training Administration” after “Type of Review: Extension with change” where “Type of Review: Extension without change” first appears.

On page 46214 in the third column, insert “Title: Employment Service Complaint Referral” in the seventh line just before the word “Record.” Thus, the beginning of line seven should read as “Title: Employment Service Complaint Referral Record, ETA 8429 and the Services to * * *”

Dated: July 15, 2002.
Grace A. Kilbane,
Administrator, Office of Workforce Security.

[FR Doc. 02-18412 Filed 7-19-02; 8:45 am]

BILLING CODE 4510-30-M